DEPARTMENT OF TRANSPORTATION

Federal Aviation Administration

14 CFR Part 39

[Docket No. FAA-2012-0602; Directorate Identifier 2009-SW-061-AD; Amendment 39-17338; AD 2013-03-04]

RIN 2120-AA64

Airworthiness Directives; Schweizer Aircraft Corporation

AGENCY: Federal Aviation Administration (FAA), DOT.

ACTION: Final rule.

SUMMARY: We are adopting a new airworthiness directive (AD) for the Schweizer Aircraft Corporation (Schweizer) Model 269D and Model 269D Configuration A helicopters. The type certificate for these models is currently held by Sikorsky Aircraft Corporation (Sikorsky). This AD requires inspecting the aft fuselage assembly in the area around the attachment point of the horizontal stabilizer, including the paint, for a crack. This AD also requires inspecting the tailboom interior support structure, and if necessary, installing an inspection panel kit in the aft fuselage assembly, and installing doublers in the stabilizer support brackets. This AD is prompted by reports of loose horizontal stabilizers and cracks in the stabilizer support structure for the extruded tailboom. The actions are intended to prevent separation of the horizontal stabilizer from the helicopter and subsequent loss of control of the helicopter.

DATES: This AD is effective March 19, 2013.

The Director of the Federal Register approved the incorporation by reference of a certain document listed in this AD as of March 19, 2013.

ADDRESSES: For service information identified in this AD, contact Sikorsky Aircraft Corporation, Attn: Manager, Commercial Technical Support, mailstop s581a, 6900 Main Street, Stratford, CT 06614; telephone (800) 562-4409; email tsslibrary@sikorsky.com; or at http://www.sikorsky.com. You may review a copy of the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Stephen Kowalski, Aviation Safety Engineer, New York Aircraft Certification Office, Engine & Propeller Directorate, 1600 Stewart Ave., suite 410, Westbury, NY 11590; telephone (516) 228-7327; email stephen.kowalski@faa.gov.

SUPPLEMENTARY INFORMATION:

Discussion

On June 11, 2012, at 77 FR 34281, the Federal Register published our notice of proposed rulemaking (NPRM), which proposed to amend 14 CFR part 39 to include an AD that would apply to Schweizer Model 269D and Model 269D Configuration A helicopters, serial numbers 0001 to 0062A, with aft fuselage assembly part number (P/N) 269D3300-1 installed. That NPRM proposed to require inspecting the aft fuselage assembly in the area around the attachment point of the horizontal stabilizer, including the paint, for a crack. That AD also proposed inspecting the tailboom interior support structure, and if necessary, installing an inspection panel kit in the aft fuselage assembly, and installing doublers in the stabilizer support brackets. The proposed requirements were prompted by reports of loose horizontal stabilizers and cracks in the support structure of the extruded tailboom. The proposed requirements were intended to prevent separation of the horizontal stabilizer from the helicopter and subsequent loss of control of the helicopter.

Comments

We gave the public the opportunity to participate in developing this AD, but we received no comments on the NPRM (77 FR 34281, June 11, 2012).

FAA's Determination

We have reviewed the relevant information and determined that an unsafe condition exists and is likely to exist or develop on other products of these same type designs and that air safety and the public interest require adopting the AD requirements as proposed.

Related Service Information

We have reviewed Schweizer Service Bulletin DB-018.3, dated December 13, 2007 (SB), which specifies inspecting for cracks in the fuselage assemblies and installing an inspection panel kit and stabilizer mount doublers. The Type Certificate for these helicopters transferred from Schweizer to Sikorsky on September 26, 2011.

Differences Between This AD and the Service Information

The Schweizer SB requires contacting the manufacturer if certain damage is found for repair instructions. This AD does not.

Costs of Compliance

We estimate that this AD affects 18 helicopters, and that the average labor rate is $85 per work hour. Based on these assessments, we estimate the following costs:

• Daily visual inspection. This takes about 10 minutes for a labor cost of $9. Assuming 365 daily inspections per year, the annual labor cost per helicopter will be about $3,285. The annual cost for the U.S. fleet will total $59,130.

• Internal inspection. This takes two work-hours for a labor cost of $170. Assuming 10 inspections a year, the annual labor cost per helicopter is $1,700.

• Install inspection panel. This takes 16 work-hours for a labor cost of $1,360. Parts cost $150 for a cost per helicopter of $1,510.

• Repair damaged longerons, tailboom tube collars, or forward stabilizer bulkhead as needed. This takes 24 work-hours for a labor cost of $2,040. Parts cost $38,000 for a cost per helicopter of $40,040.

• Repair a crack in the aft fuselage assembly clip, aft bulkhead, or adjacent skins. This takes 24 work-hours for a labor cost of $2,040. Parts cost $120 for a cost per helicopter of $2,160.

• Repair interference between the rivet heads and skin. This takes 10 work-hours for a labor cost of $850. No parts are needed.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-03-04 SCHWEIZER AIRCRAFT CORPORATION HELICOPTERS: Amendment 39-17338; Docket No. FAA-2012-0602; Directorate Identifier 2009-SW-061-AD.

(a) Applicability

This AD applies to Schweizer Aircraft Corporation (Schweizer) Model 269D and Model 269D Configuration A helicopters, serial numbers 0001 to 0062A, with aft fuselage assembly part number (P/N) 269D3300-1 installed, certificated in any category.

Note to Applicability: The type certificate for these models is currently held by Sikorsky Aircraft Corporation.

(b) Unsafe Condition

This AD defines the unsafe condition as loose horizontal stabilizers and cracks in the stabilizer support structure for the extruded tailboom, which could result in separation of the horizontal stabilizer from the helicopter and subsequent loss of helicopter control.

(c) Effective Date

This AD becomes effective March 19, 2013.

(d) Compliance

You are responsible for performing each action required by this AD within the specified compliance time unless it has been accomplished previously.

(e) Required Actions

(1) Before the first flight of each day, visually inspect the aft fuselage assembly in the area around the attachment point of the horizontal stabilizer, including the paint, for a crack. If there is a crack, remove the horizontal stabilizer and perform an interior inspection in accordance with Part II: Internal Inspection, paragraphs b. and c., of Schweizer Service Bulletin DB-018.3, dated December 13, 2007 (SB).

(i) If there is a crack in the aft fuselage assembly clip, in the aft bulkhead, or in adjacent skins, repair the crack. Thereafter, at intervals not to exceed 200 hours time-in-service (TIS), remove the horizontal stabilizer and repeat the interior inspection in accordance with Part II: Internal Inspection, paragraphs b. and c., of the SB, or replace the aft fuselage assembly, P/N 269D3300-1,with an airworthy aft fuselage assembly, P/N 269D3300-35.

(ii) If there is a crack in a longeron, tailboom tube collar or a forward stabilizer bulkhead, replace the aft fuselage assembly with an airworthy aft fuselage assembly, P/N 269D3300-35.

(2) Within 100 hours TIS or three months, whichever occurs first:

(i) Remove the horizontal stabilizer, clean the horizontal stabilizer mounting brackets, and inspect the mounting brackets for wear greater than 0.002-inch deep. If the bracket wear exceeds 0.002-inch deep, replace the mounting bracket with an airworthy mounting bracket.

(ii) Modify the aft fuselage assembly by installing Inspection Panel kit P/N SA-269DK-035.

(iii) Install doublers on the forward side of each mounting bracket in accordance with Part III-2, paragraphs e. through i., of the SB.

(iv) Inspect the horizontal stabilizer forward and aft spars for wear in the mounting attachment areas. If the wear exceeds 0.002-inch deep, replace the spar with an airworthy spar.

(v) Inspect for rivet interference between the rivet heads and skin on the top surface of the horizontal stabilizer and the tailboom stiffening Web near Station 232.4. If interference exists, replace with airworthy rivets.

(vi) Install an airworthy horizontal stabilizer using 4 bolts, P/N NAS1304-4, and 4 washers, P/N AN960KD416 or NAS1149D0463K.

(3) Removing aft fuselage assembly, P/N 269D3300-1, and replacing it with aft fuselage assembly, P/N 269D3300-35, is terminating action for the requirements of this AD.

(f) Special Flight Permits

Special flight permits may be issued in accordance with 14 CFR 21.197 and 21.199 provided that before operating the helicopter to a location to perform the actions in paragraphs (e)(1) through (e)(3) of this AD, a daily, pre-flight visual inspection is accomplished in accordance with paragraph (e)(1) of this AD.

(g) Alternative Methods of Compliance (AMOCs)

(1) The Manager, NY ACO, FAA, may approve AMOCs for this AD. Send your proposal to: Stephen Kowalski, Aviation Safety Engineer, New York Aircraft Certification Office, Engine & Propeller Directorate, 1600 Stewart Ave., suite 410, Westbury, NY 11590; telephone (516) 228-7327; email stephen.kowalski@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Subject

Joint Aircraft Service Component (JASC) Code: 5302, Rotorcraft tailboom.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Schweizer Service Bulletin DB-018.3, dated December 13, 2007.

(ii) Reserved.

(3) For Schweizer Aircraft Corporation service information identified in this AD, contact Sikorsky Aircraft Corporation, Attn: Manager, Commercial Technical Support, mailstop s581a, 6900 Main Street, Stratford, CT 06614; telephone (800) 562-4409; email tsslibrary@sikorsky.com; or at http://www.sikorsky.com.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 29, 2013.
Lance T. Gant,
Acting Directorate Manager, Rotorcraft Directorate, Aircraft Certification Service.

[FR Doc. 2013-02583 Filed 2-11-13; 8:45 am]

BILLING CODE 4910-13-P